DEPARTMENT OF ENERGY

Federal Energy Regulatory Commission

[Project No. 5062-049]

Quinebaug Associates, LLC; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 5062-049.

c. Date Filed: February 27, 2025.

d. Applicant: Quinebaug Associates, LLC (Quinebaug Associates).

e. Name of Project: Quinebaug-Five Mile Pond Hydroelectric Project.

f. Location: On the Quinebaug River and Five Mile River in Windham County, Connecticut.

g. Filed Pursuant to: Federal Power Act 16 U.S.C. 791(a)-825(r).

h. Applicant Contact: Antonio Zarella, 230 Park Ave., Suite 447, New York, NY 10169; (315) 247-0253; tz@relevatepower.com.

i. FERC Contact: Amanda Gill at (202) 502-6773; or email at amanda.gill@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 28, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Quinebaug-Five Mile Pond Hydroelectric Project (P-5062-049).

m. The application is not ready for environmental analysis at this time.

n. Project Description: the existing Quinebaug-Five Mile Pond Hydroelectric Project consists of two developments: the 350-kilowatt (kW) Five Mile Pond Development on the Five Mile River, a tributary to the Quinebaug River; and the 1,831-kW Quinebaug Development, at the confluence of the Five Mile Pond River. Combined, the project has an authorized capacity of 2,181-kW and an average annual generation of 7,460 megawatt-hours between 2014 and 2023.

Five Mile Pond Development

The Five Mile Pond Development comprises: (1) an approximately 135-foot-long, 16.5-foot-high, stone masonry gravity dam (Five Mile Pond dam); (2) an approximately 100-foot-long overflow spillway; (3) an approximately 65-acre impoundment with a storage capacity of 260 acre-feet at a normal water surface elevation of 220.8 feet mean sea level (msl); (4) an approximately 280-foot-long, 30-foot-wide, and 12-foot-deep concrete stone and earthen canal; (5) an intake structure located at the terminus of the canal with a 10-foot-wide, 15-foot-deep, steel, 2-inch clear space trashrack; (6) a 30-foot-wide, 20-foot-long masonry and wood powerhouse; (7) a 350-kW turbine-generator; (8) a 15-feet-long, 30-feet-wide concrete tailrace, (9) a 2.3/23 kilovolt (kV) transformer; (10) a 120-foot-long, 2.3 kV transmission line; and (11) other appurtenant facilities.

Quinebaug Development

The Quinebaug Development comprises: (1) an approximately 250-foot-long, 14-foot-high stone dam (Rojak dam); (2) an approximately 130-foot-long spillway; (3) an 85-acre impoundment with a storage capacity of 283 acre-feet at a normal water surface elevation of 188 feet msl; (4) an approximately 40-foot-wide concrete and steel headgate structure with three 8-foot-wide by 9-foot-deep vertical slide gates; (5) an approximately 900-foot-long, 30-foot-wide, and 9.5-foot deep masonry open channel power canal; (6) a 26.5-foot-wide intake structure with a 3.5-inch clear space trashrack; (7) a 71-foot-long, 33-foot-wide, and 43-foot-high concrete powerhouse; (8) three turbine-generators (1,120 kW; 711 kW; and a 70 kW low flow unit; (9) a 15-foot-long, 33-foot-wide tailrace; (10) a 2.3/23-kV transformer; (11) a 120-foot-long, 2.3-kV transmission line; and (12) other appurtenant facilities.

The project creates an approximately 300-foot-long bypassed reach on the Five Mile River and an approximately 1,000-foot-long bypassed reach on the Quinebaug River. The project does not include any developed recreation facilities.

The current license requires Quinebaug Associates to operate the project in a run-of-river mode for the protection of fish and wildlife resources in the Quinebaug and Five Mile rivers. The current license also requires Quinebaug Associates to maintain a 77 cubic feet per second (cfs) continuous minimum flow in the bypassed reach downstream Rojak dam, and a 15 cfs minimum flow in the bypassed reach downstream Five Mile Pond dam, as measured immediately below the project dams, or inflow to the reservoirs, whichever is less, for the protection of fish and wildlife resources.

Quinebaug Associates proposes to: (1) continue to operate the project in run-of-river mode; (2) continue to release a continuous minimum flow of 77 cfs downstream of Rojak dam, and a continuous minimum flow of 15 cfs downstream of Five Mile Pond dam, or inflow to the project reservoirs, whichever is less; (3) develop a flow management and monitoring plan; (4) install upstream eel passage facilities at each development; and (5) enhance downstream fish passage at each development.

o. Copies of the application may be viewed on the Commission's website at http://www.ferc.gov using the “eLibrary” link. Enter the docket number excluding the last three digits in the docket number field to access the document (P-5062). For assistance, contact FERC Online Support at FERCOnlineSupport@ferc.gov or call tollfree, (866) 208-3676 or (202) 502-8659 (TTY).

You may also register online at https://ferconline.ferc.gov/FERCOnline.aspx to be notified via email of new filings and issuances related to this or other pending projects. For assistance, contact FERC Online Support.

p. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

q. Procedural Schedule and Final Amendments: the application will be processed according to the following preliminary schedule. Revisions to the schedule will be made as appropriate.

Milestone | Target date
Issue Deficiency Letter (if necessary) | April 2025.
Request Additional Information | April 2025.
Issue Scoping Document 1 for comments | July 2025.
Issue Acceptance Letter | August 2025.
Request Additional Information (if necessary) | August 2025.
Issue Scoping Document 2 (if necessary) | September 2025.

Final amendments to the application must be filed with the Commission no later than 30 days from the issuance date of the notice of ready for environmental analysis.

Dated: March 13, 2025.
Debbie-Anne A. Reese,
Secretary.

[FR Doc. 2025-04699 Filed 3-19-25; 8:45 am]

BILLING CODE 6717-01-P